DEPARTMENT OF TRANSPORTATION

Federal Aviation Administration

14 CFR Part 39

[Docket No. FAA-2017-0155; Directorate Identifier 2016-SW-051-AD; Amendment 39-18813; AD 2017-05-03]

RIN 2120-AA64

Airworthiness Directives; Airbus Helicopters Deutschland GmbH (Airbus Helicopters) (Previously Eurocopter Deutschland GmbH)

AGENCY: Federal Aviation Administration (FAA), Department of Transportation (DOT).

ACTION: Final rule; request for comments.

SUMMARY: We are adopting a new airworthiness directive (AD) for Airbus Helicopters Model BO-105C, BO-105LS A-3, and BO-105S helicopters. This AD requires inspecting each main rotor blade (MRB) for debonding, and is prompted by a report of incorrect bonding of the shell to the MRB. These actions are intended to detect and prevent an unsafe condition on these products.

DATES: This AD becomes effective March 17, 2017.

We must receive comments on this AD by May 1, 2017.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov by searching for and locating Docket No. FAA-2017-0155; or in person at the Docket Operations Office between 9 a.m. and 5 p.m., Monday through Friday, except Federal holidays. The AD docket contains this AD, the European Aviation Safety Agency (EASA) AD, the economic evaluation, any comments received, and other information. The street address for the Docket Operations Office (telephone 800-647-5527) is in the ADDRESSES section. Comments will be available in the AD docket shortly after receipt.

For service information identified in this final rule, contact Airbus Helicopters, 2701 N. Forum Drive, Grand Prairie, TX 75052; telephone (972) 641-0000 or (800) 232-0323; fax (972) 641-3775; or at http://www.airbushelicopters.com/techpub. You may review the referenced service information at the FAA, Office of the Regional Counsel, Southwest Region, 10101 Hillwood Pkwy., Room 6N-321, Fort Worth, TX 76177.

FOR FURTHER INFORMATION CONTACT: Matt Fuller, Senior Aviation Safety Engineer, Safety Management Group, Rotorcraft Directorate, FAA, 10101 Hillwood Pkwy., Fort Worth, TX 76177; telephone (817) 222-5110; email matthew.fuller@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

EASA, which is the Technical Agent for the Member States of the European Union, has issued Emergency AD No. 2016-0118-E, dated June 17, 2016, to correct an unsafe condition for Airbus Helicopters Model BO105 C, BO105 D, BO105 LS A-3, and BO105 S helicopters, all variants except CB-5, D, DS, DBS-5, and CBS-5. According to EASA, during an inspection on a Model BO105 S helicopter, debonding was found on the erosion protective shell (shell) of an MRB, caused by incorrect preparation of the shell prior to the bonding process. EASA further states that this condition, if not detected and corrected, could result in loss of the shell in-flight, which could strike the tailboom or the tail rotor, causing an imbalance in the main rotor and high vibrations. EASA also advises that these high vibrations could damage the helicopter, resulting in loss of tail rotor control and subsequent loss of control of the helicopter.

To address this unsafe condition, EASA AD 2016-0118-E requires repetitive inspections of the shells for debonding within 10 hours time-in-service (TIS) and thereafter at 50-hour TIS intervals. After the shells have completed 200 hours TIS since the shell was installed and completed an inspection of the shell, the EASA AD no longer requires the repetitive 50 hour TIS inspections. The EASA AD applies to certain part-numbered MRBs on which the shell was last replaced between December 1, 2010, and February 28, 2015, inclusive, or for which there is no maintenance record available to determine the date the shell was last replaced.

FAA's Determination

These helicopters have been approved by the aviation authority of Germany and are approved for operation in the United States. Pursuant to our bilateral agreement with Germany, EASA, its technical representative, has notified us of the unsafe condition described in the EASA AD. We are issuing this AD because we evaluated all information provided by EASA and determined the unsafe condition exists and is likely to exist or develop on other helicopters of these same type designs.

Related Service Information

We reviewed Airbus Helicopters Emergency Alert Service Bulletin (EASB) BO105-10A-128, Revision 0, dated June 16, 2016, for Model BO105C, D, and S helicopters and EASB No. BO105 LS-10A-016, Revision 0, dated June 16, 2016, for Model BO105 LS A-3 helicopters. This service information specifies repetitively inspecting the MRB shell for delamination in accordance with the helicopter's maintenance manual procedures.

Differences Between This AD and the EASA AD

The EASA AD is applicable to the Model BO105D helicopter; this AD is not because it does not have a type certificate in the U.S. The EASA AD prohibits installing an affected MRB on any helicopter until its AD actions have been complied with. This AD does not.

AD Requirements

This AD applies to helicopters with certain part-numbered MRBs with shells that were last replaced between December 1, 2010, and February 28, 2015, inclusive or where the most recent date of replacement of the shell cannot be determined from the helicopter maintenance records. This AD requires inspecting each MRB shell for debonding within 10 hours TIS and thereafter at intervals not to exceed 50 hours TIS until the MRB reaches 200 hours TIS. After the blade has accumulated 200 hours TIS since the last shell replacement, the 50 hours TIS inspections are terminated. If there is any debonding, this AD requires repairing or replacing the MRB before further flight.

Costs of Compliance

We estimate that this AD affects 73 helicopters of U.S. Registry.

At an average labor rate of $85, we estimate that operators may incur the following costs in order to comply with this AD. Inspecting the MRB shells will require 1 work-hour, for a total cost of $85 per helicopter and $6,205 for the fleet, per inspection cycle. If required, replacing an MRB will require 2 work-hours and required parts will cost $114,000, for a cost per helicopter of $114,170.

FAA's Justification and Determination of the Effective Date

Providing an opportunity for public comments prior to adopting these AD requirements would delay implementing the safety actions needed to correct this known unsafe condition. Therefore, we find that the risk to the flying public justifies waiving notice and comment prior to the adoption of this rule because the inspections required by this AD must be accomplished within 10 hours TIS and 50 hours TIS, a very short interval for helicopters used in helicopter air ambulance operations.

Since an unsafe condition exists that requires the immediate adoption of this AD, we determined that notice and opportunity for public comment before issuing this AD are impracticable and that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-05-03 Airbus Helicopters Deutschland GmbH (Previously Eurocopter Deutschland GmbH): Amendment 39-18813; Docket No. FAA-2017-0155; Directorate Identifier 2016-SW-051-AD.

(a) Applicability

This AD applies to Airbus Helicopters Deutschland GmbH Model BO-105C, BO-105LS A-3, and BO-105S helicopters, certificated in any category, with a main rotor blade (MRB) part number 105-15103, 105-15141, 105-15141V001, 105-15143, 105-15150, 105-15150V001, 105-15152, 105-81013, 105-87214, 1120-15101, or 1120-15103 that has less than 200 hours time-in-service (TIS) since the MRB erosion protective shell (shell) was last replaced, and where the shell was last replaced between December 1, 2010, and February 28, 2015, inclusive or where the most recent date of replacement of the shell is unknown.

(b) Unsafe Condition

This AD defines the unsafe condition as debonding of the shell of an MRB. This condition could result in loss of the shell in-flight, which could strike the tailboom or tail rotor, resulting in loss of tail rotor control, high main rotor vibration, and subsequent loss of control of the helicopter.

(c) Effective Date

This AD becomes effective March 17, 2017.

(d) Compliance

You are responsible for performing each action required by this AD within the specified compliance time unless it has already been accomplished prior to that time.

(e) Required Actions

Within 10 hours TIS, and thereafter at intervals not to exceed 50 hours TIS:

(1) Inspect by tap test each MRB for debonding of the shell.

(2) If the shell has debonded in any area, before further flight, repair any debonding that does not exceed the maximum repair damage limits, or replace the MRB.

(f) Alternative Methods of Compliance (AMOCs)

(1) The Manager, Safety Management Group, FAA, may approve AMOCs for this AD. Send your proposal to: Matt Fuller, Senior Aviation Safety Engineer, Safety Management Group, Rotorcraft Directorate, FAA, 10101 Hillwood Pkwy., Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

(1) Airbus Helicopters Emergency Alert Service Bulletin (EASB) BO105-10A-128 for Model BO105C, D, and S helicopters and EASB BO105 LS-10A-016 for Model BO105 LS A-3 helicopters, both Revision 0, and dated June 16, 2016, which are not incorporated by reference, contain additional information about the subject of this final rule. For service information identified in this final rule, contact Airbus Helicopters, 2701 N. Forum Drive, Grand Prairie, TX 75052; telephone (972) 641-0000 or (800) 232-0323; fax (972) 641-3775; or at http://www.airbushelicopters.com/techpub. You may review a copy of the service information at the FAA, Office of the Regional Counsel, Southwest Region, 10101 Hillwood Pkwy., Room 6N-321, Fort Worth, TX 76177.

(2) The subject of this AD is addressed in European Aviation Safety Agency (EASA) Emergency AD No. 2016-0118-E, dated June 17, 2016. You may view the EASA AD on the Internet at http://www.regulations.gov by searching for and locating it in Docket No. FAA-2017-0155.

(h) Subject

Joint Aircraft Service Component (JASC) Code: 6210 Main Rotor Blade.

Issued in Fort Worth, Texas, on February 21, 2017.
Lance T. Gant,
Manager, Rotorcraft Directorate, Aircraft Certification Service.

[FR Doc. 2017-03963 Filed 3-1-17; 8:45 am]

BILLING CODE 4910-13-P